DEPARTMENT OF LABOR

Employment and Training Administration

[TA-W-51,473]

Shephard Clothing Company, Inc., New Bedford, MA; Notice of Termination of Investigation

Pursuant to Section 221 of the Trade Act of 1974, an investigation was initiated on April 11, 2003, in response to a worker petition that was filed on behalf of workers at Shepard Clothing Company, Inc., New Bedford, Massachusetts. All workers at the subject firm were certified on June 11, 2001 (TA-W-38,955). That certification expires two years from date of certification. All employees were laid off prior to the expiration of that TAA certification.

Consequently, further investigation would serve no purpose, and the investigation has been terminated.

Signed in Washington, DC this 14th day of April, 2003.
Elliott S. Kushner,
Certifying Officer, Division of Trade Adjustment Assistance.

[FR Doc. 03-10346 Filed 4-25-03; 8:45 am]

BILLING CODE 4510-30-U